DEPARTMENT OF HEALTH AND HUMAN SERVICES

Administration for Children and Families

Submission for OMB Review; ACF's Generic Clearance for Grant Reviewer Recruitment Forms (OMB #0970-0477)

AGENCY: Office of Planning, Research, and Evaluation; Administration for Children and Families; HHS.

ACTION: Request for public comment.

SUMMARY: The Administration for Children and Families (ACF), Office of Planning, Research, and Evaluation (OPRE) is proposing an extension of a currently approved generic clearance (OMB No. 0970-0477) for Grant Reviewer Recruitment (GRR) forms. The GRR forms will be used to select reviewers who will participate in the grant review process for the purpose of selecting successful applications.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

SUPPLEMENTARY INFORMATION:

Description: Under this generic approval, ACF conducts and proposes to continue to conduct more than one information collection that is very similar, voluntary, low-burden and uncontroversial. The purpose is to select qualified reviewers for the grant peer review process based on professional qualifications using data entered by candidates and the uploaded writing sample and/or curriculum vitae and/or resume. The grant review process is in accordance with the U.S. Department of Health and Human Services' (DHHS) Grants Policy Directive (GPD) 2.04 “Awarding Grants”, the DHHS Awarding Agency Grants Administration Manual (AAGAM), Chapter 2.04.104C “Objective Review of Grant Applications”, and the Public Health Service (PHS) Act, Sections 799(f) and 806(e).

Respondents: Individuals who may apply to review ACF grant applications.

Annual Burden Estimates
Instrument | Total number of respondents | Number of responses per respondent | Average burden hours per response | Annual burden hours
Grant Reviewer Recruitment Form | 3000 | 1 | .5 | 1500

Estimated Total Annual Burden Hours: 1500.

Mary B. Jones,
ACF/OPRE Certifying Officer.

[FR Doc. 2019-03068 Filed 2-21-19; 8:45 am]

BILLING CODE 4184-79-P